DEPARTMENT OF COMMERCE

International Trade Administration

[A-552-850]

Polypropylene Corrugated Boxes From the Socialist Republic of Vietnam: Postponement of Preliminary Determination in the Less-Than-Fair-Value Investigation

AGENCY: Enforcement and Compliance, International Trade Administration, Department of Commerce.

DATES: Applicable August 12, 2025.

FOR FURTHER INFORMATION CONTACT: Alex Cipolla at (202) 482-4956, AD/CVD Operations, Office III, Enforcement and Compliance, International Trade Administration, U.S. Department of Commerce, 1401 Constitution Avenue NW, Washington, DC 20230.

SUPPLEMENTARY INFORMATION:

Background

On April 7, 2025, the U.S. Department of Commerce (Commerce) initiated a less-than-fair-value (LTFV) investigation of imports of polypropylene corrugated boxes from the Socialist Republic of Vietnam (Vietnam).¹ Currently, the preliminary determination is due no later than August 25, 2025.

¹ See Polypropylene Corrugated Boxes from the People's Republic of China and the Socialist Republic of Vietnam: Initiation of Less-Than-Fair-Value Investigations, 90 FR 15544 (April 14, 2025) (Initiation Notice).

Postponement of Preliminary Determination

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) the petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioners are CoolSeal USA Inc.; Inteplast Group Corporation; SeaCa Plastic Packaging; and Technology Container Corp. (collectively, petitioners).

On July 30, 2025, the petitioners submitted a timely request that Commerce postpone the preliminary determination in the LTFV investigation.³ The petitioners stated that they request postponement “because the mandatory respondent in this investigation only recently submitted its initial responses to {Commerce's} antidumping questionnaire, and {the p}etitioners have identified numerous instances in the reporting that require clarification, correction, and supplemental information. In addition, submission of surrogate value information in this investigation has not yet been possible because of extensions of the deadline for submitting factors of production data and improper bracketing thereof in the respondent's initial Section D questionnaire response.” ⁴

³ See Petitioners' Letter, “Petitioners' Request for Postponement of the Preliminary Determination,” dated July, 30, 2025.

⁴ Id. at 2.

For the reasons stated above and because there are no compelling reasons to deny the request, Commerce, in accordance with section 733(c)(1)(A) of the Act, is postponing the deadline for the preliminary determination by 50 days (i.e., 190 days after the date on which this investigation was initiated). As a result, Commerce will issue its preliminary determination no later than October 14, 2025. In accordance with section 735(a)(1) of the Act and 19 CFR 351.210(b)(1), the deadline for the final determination of this investigation will continue to be 75 days after the date of the preliminary determination, unless postponed at a later date.

This notice is issued and published pursuant to section 733(c)(2) of the Act and 19 CFR 351.205(f)(1).

Dated: August 6, 2025.
Abdelali Elouaradia,
Deputy Assistant Secretary for Enforcement and Compliance.

[FR Doc. 2025-15245 Filed 8-11-25; 8:45 am]

BILLING CODE 3510-DS-P